DEPARTMENT OF ENERGY

Federal Energy Regulatory Commission

[Project No. 2310-173; Project No. 2266-096]

Pacific Gas and Electric Company; Nevada Irrigation District; Notice Dismissing Motions to Intervene

February 10, 2009.

On April 11, 2008, Pacific Gas and Electric Company (PG&E), in Project No. 2310-173, and the Nevada Irrigation District (District), in Project No. 2266-096, filed Notices of Intent to File License Applications and Pre-Application Documents (PAD) under the Commission's integrated licensing process (ILP) for the Drum Spaulding and Yuba-Bear Hydroelectric Projects, respectively. On September 24, 2008, the County of Placer filed motions to intervene in these proceedings.

Pursuant to Rule 214(a)(3) of the Commission's Rules of Practice and Procedure, any person may seek to intervene and become a party in a proceeding by filing a motion to intervene that complies with the content requirements of Rule 214(b).¹ However, a motion to intervene in the ILP at the pre-application stage is not appropriate. Because PG&E and the District have not yet filed license applications, there are no proceedings in which to intervene and the motions to intervene in Project Nos. 2310-173 and 2266-096 are dismissed as premature. Should PG&E and the District file actual license applications, the Commission will then provide an opportunity for intervention.²

¹ 18 CFR 385.214 (2008).

² 18 CFR 5.1 et seq. (2008). To receive all filings in a docket, interested parties are encouraged to utilize the Commission's e-Subscription service, which can be accessed at http://www.ferc.gov/docs-filing/esubscription.asp.

This notice constitutes final agency action. Requests for rehearing of this notice may be filed within 30 days, pursuant to Rule 713 of the Commission's Rules of Practice and Procedure.³

³ 18 CFR 385.713 (2008).

Kimberly D. Bose,
Secretary.

[FR Doc. E9-3342 Filed 2-13-09; 8:45 am]

BILLING CODE 6717-01-P